FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Abaco Logistics Corporation (OFF), 8051 NW 67th Street, Miami, FL 33166, Officers:, Manuel T. Soto, Vice President (QI), Jhon J. Silva Villa, President, Application Type: New OFF License.

Alliance Pacific Corporation, Inc. (NVO & OFF), 6400 Highlands Parkway, Suite F, Smyrna, GA 30082, Officers:, Simon J. Button, CEO (QI), Dave Tighe, CFO, Application Type: QI Change & Add OFF Service.

American General Logistics, Inc. (NVO), 626 N. Chapman Street, West Covina, CA 91790, Officer:, Xinquing Ran, President (QI), Application Type: New NVO License.

APL Logistics Ltd (NVO), 456 Alexandra Road, Suite #06-00, Singapore, 119962 Singapore, Officers:, Anthony M. Zasimovich, Assistant Vice President (QI), YatChung Ng, Director, Application Type: QI Change.

C.H. Robinson International, Inc. dba Christal Lines (NVO & OFF), 14701 Charison Road, Eden Prairie, MN 55347, Officers:, Kenneth D. Sine, Vice President (QI), Scott Satterlee, President, Application Type: Add Trade Name, C.H. Robinson Freight Services, Ltd.

Chijioke Samuel Ilochonwu dba Nobles (NVO), 6258 Ludington Drive, Suite 1, Houston, TX 77035, Officer:, Chijioke S. Ilochonwu, Sole Proprietor (QI), Application Type: New NVO License.

CMA CGM Logistics USA LLC (NVO & OFF), 1 Meadowlands Plaza, Suite 201, East Rutherford, NJ 07073, Officers:, Nicalaos Fafoutis, Chief Compliance Officer (QI), Frank J. Baragona, Member, Application Type: QI Change.

D & D Transport, Inc. (NVO & OFF), 4869 Peavey Drive, Meridian, MS 39301, Officers:, Courtland Gray, Secretary (QI), Hartley D. Peavey, CEO, Application Type: QI Change.

EXL Logistics, Inc. (NVO), 1913 NW 79th Avenue, Miami, FL 33126, Officers:, Marcelo Kroeff, Vice President (QI), Andrea Landau, Secretary, Application Type: New NVO License.

Expert Log LLC (NVO & OFF), 10540 NW 29th Terrace, Doral, FL 33172, Officers:, Arnor Cavalcante, Manager (QI), Maria E. Souza, Member, Application Type: QI Change.

Final Mile Logistics, Inc. (NVO & OFF), 165 Charles W. Grant Parkway, Atlanta, GA 30354, Officers:, Robert Gentzke, COO (QI), Joseph A. Czyzyk, COB, Application Type: New NVO & OFF License.

Firstrans International Co. (NVO), 1450 Glenn Curtiss Street, Carson, CA 90746, Officers:, Sophann Chum, COO (QI), Yanzhong Ding, President, Application Type: QI Change.

Harvest Logistics, LLC (NVO & OFF), 2441 Porter Street, Los Angeles, CA 90021, Officers:, Aurora Banuelos, Member/Manager (QI), Karla Costilla, Member/Manager, Application Type: New NVO & OFF License.

ICAT Logistics, Inc. (OFF), 6805 Douglas Legum Drive, Elkridge, MD 21075, Officers:, Howard K. Buford, Ocean Freight Director (QI), Richard L. Campbell, Jr., President, Application Type: QI Change.

Jetstream Freight Forwarding, Inc. dba Jetstream (NVO & OFF), 21024 24th Avenue, Suite 114, Sea-Tac, WA 98198, Officers:, Mariya V. Rivera, Secretary (QI), Bryan D. Jennings, President, Application Type: QI Change.

Miac Logistics Corp. (NVO & OFF), 8300 SW 8th Street, Suite 104, Miami, FL 33144, Officers:, Yelena Jimenez, Vice President (QI), Pedro J. Carrillo, President, Application Type: New NVO & OFF License.

Mitsui-Soko (U.S.A.) Incorporated (NVO & OFF), 1651 Glenn Curtiss Street, Carson, CA 90746, Officers: Masafumi Inoue, President (QI), Hiroyuki Hamano, Chairman, Application Type: QI Change.

Nippon Steel & Sumikin Logistics (U.S.A.), Inc. dba Sitra (NVO & OFF), 1822 Brummel Avenue, Elk Grove Village, IL 60007, Officers: Miki Okawachi, Assistant Vice President (QI), Atsushi Tsujioka, President, Application Type: QI Change.

Peters & May USA, Inc. dba Compass Marine (NVO & OFF), 127 N. Walnut Street, Itasca, IL 60143, Officers: Noel A. Viera, Vice President (QI), David J. Holley, President, Application Type: QI Change.

Royal Global Express (OFF), 13225 Marquardt Avenue, Santa Fe Springs, CA 90670, Officers: James E. Barkley, Vice President (QI), Shawn K. Duke, President, Application Type: New OFF License.

Seko Worldwide, LLC (NVO & OFF), 1100 Arlington Heights Road, Suite 600, Itasca, IL 60143, Officers: Jose I. Quesada, Vice President (QI), William J. Wascher, President, Application Type: QI Change.

Sel Logistics (JFK) Inc. (NVO & OFF), 33-70 Prince Street, Suite 606, Flushing, NY 11354, Officers: Leo Chiu, Vice President (QI), Ting F. Yeung, President, Application Type: New NVO & OFF License.

Tazmanian Freight Forwarding, Inc. (NVO & OFF), 4949 Old Grayton Road, Cleveland, OH 44135, Officers: Lori Crawford, Vice President (QI), Tom Beckman, President, Application Type: QI Change.

TFC Partners, LLC dba FreightCo Logistics (NVO), 2453 South Third Street, Jacksonville Beach, FL 32250, Officers: Charles R. Cain, Manager/Member (QI), Theodore B. Clayton, Manager/Member, Application Type: New NVO License.

Trans-Net, Inc. dba Hospitality Logistics International dba Trans-Net (NVO & OFF), 710 5th Avenue NW., Issaquah, WA 98027, Officers: Peter R. Moe, Sr., CEO (QI), Barbara M. Moe, Secretary, Application Type: Delete Trade Name Hospitality Logistics International.

Transtoria Logistic & Solutions Inc (NVO & OFF), 126 NW 164th Avenue, Pembroke Pines, FL 33028, Officers: Victoria R. Mendiolaza, Director (QI), Clover Cercedo, Director, Application Type: New NVO & OFF License.

Tripoli Shipping Services Inc. (NVO & OFF License), 10418 Mykawa Road, Houston, TX 77048, Officers: Misel Repak, COO (QI), Salem Abudher, CEO, Application Type: Add NVO Service.

Triton Logistics Inc (NVO & OFF), 8820 NW 24th Terrace, Doral, FL 33172, Officers: Modesto Gil, Vice President (QI), Antonio Iturriaga, President, Application Type: New NVO & OFF License.

UTI, United States, Inc. dba UTI (NVO & OFF), 100 Ocean Gate, Suite 1500, Long Beach, CA 90802, Officers: Mark Bartmann, Vice President (QI), Christopher Dale, President, Application Type: QI Change.

Vector Global Logistics LLC (NVO & OFF), 887 West Marietta Street NW., M201, Atlanta, GA 30318, Officers: Enrique Alvarez, Managing Member (QI), Brian R. Oxley, Managing Member, Application Type: QI Change.

W.F. Whelan Co. (OFF), 41425 Joy Road, Canton, MI 48187, Officer:, William F. Whelan, President (QI), Application Type: Add Trade Name Omni Worldwide Logistics.

Worldwide Autos LLC (NVO & OFF), 5114 East Broadway Avenue, Tampa, FL 33619, Officer: Yusuf M. Madani, Managing Member (QI), Application Type: New NVO & OFF License.

Dated: August 30, 2013.
By the Commission.
Karen V. Gregory,
Secretary.

[FR Doc. 2013-22134 Filed 9-10-13; 8:45 am]

BILLING CODE 6730-01-P